DEPARTMENT OF TRANSPORTATION

National Highway Traffic Safety Administration

[U.S. DOT Docket Number NHTSA-2004-18842]

Reports, Forms, and Record Keeping Requirements

AGENCY: National Highway Traffic Safety Administration (NHTSA), U.S. Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes two collections of information for which NHTSA intends to seek OMB approval.

DATES: Comments must be received on or before October 12, 2004.

ADDRESSES: Comments must refer to the docket notice numbers cited at the beginning of this notice and be submitted to Docket Management, National Highway Traffic Safety Administration, Room PL-401, 400 Seventh Street, SW., Washington, DC 20590. Please identify the proposed collection of information for which a comment is provided, by referencing its OMB Clearance Number. It is requested, but not required, that 2 copies of the comment be provided. The Docket Section is open on weekdays from 10 a.m. to 5 p.m.

FOR FURTHER INFORMATION CONTACT: Complete copies of each request for the collection of information may be obtained at no charge from Mr. Michael J. Jordan, National Highway Traffic Safety Administration (NVS-216), 400 Seventh Street, SW., (Room 2318), Washington, DC 20590. Mr. Jordan's telephone number is (202) 493-0576. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collections of information:

(1) Title: Consumer Complaint Information.

OMB Control Number: 2127-0008.

Affected Public: Individuals and households.

Abstract: Under chapter 301 of title 49 of the United States Code, manufacturers of motor vehicles and items of motor vehicle equipment must notify owners and provide a free remedy (i.e., a recall) when it has been determined that a safety-related defect exists in the manufacturer's product. NHTSA investigates possible safety defects and may order recalls. NHTSA solicits information from vehicle owners, which is used to identify and evaluate possible safety-related defects and provide evidence of the existence of such defects.

Consumer complaint information takes the form of a Vehicle Owner's Questionnaire (VOQ), which is a paper, self-addressed mailer that consumers complete. This mailer contains owner information, product information, failed component information, and incident information. It may also take the form of an electronic VOQ containing the same information as identified above, which can be submitted via NHTSA's Internet Web site or by calling the Department of Transportation's Auto Safety Hotline. Or, it may take the form of a consumer letter. All consumer complaint information, in addition to other sources of available information, is reviewed by NHTSA staff to determine whether a safety-related defect trend or catastrophic failure is developing that would warrant the opening of a safety defect investigation.

Estimated Annual Burden: 16,268 hours.

Number of Respondents: 49,296.

(2) Title: Voluntary Child Safety Seat Registration Form.

OMB Control Number: 2127-0576.

Affected Public: Individuals and households.

Abstract: Chapter 301 of title 49 of the United States provides that if either NHTSA or a manufacturer determines that motor vehicles or items of motor vehicle equipment contain a defect that relates to motor vehicle safety or fail to comply with an applicable Federal Motor Vehicle Safety Standard, the manufacturer must notify owners and purchasers of the defect or noncompliance and must provide a remedy without charge. Pursuant to 49 CFR part 577, defect and noncompliance notification for equipment items, including child restraint systems (CRS), must be sent by first class mail to the most recent purchaser known to the manufacturer. To increase the likelihood that CRS manufacturers will be aware of the identity of purchasers, NHTSA adopted S5.8 of Federal Motor Vehicle Safety Standard No. 213, to require manufacturers to include a postage-paid form with each CRS so the purchaser can register with the manufacturer. In addition to the registration form supplied by the manufacturer, NHTSA has implemented a CRS registration system to assist those individuals who have either lost the registration form that came with the CRS or purchased a previously owned CRS. In the absence of a registration system, many owners of child passenger safety seats would not be notified of safety defects and noncompliances, and would not have the defects and noncompliances remedied, because the manufacturer would not be aware of their identities.

Estimated Annual Burden: 283 hours.

Number of Respondents: 5,665.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: August 5, 2004.
Kenneth N. Weinstein,
Associate Administrator for Enforcement.

[FR Doc. 04-18356 Filed 8-10-04; 8:45 am]

BILLING CODE 4910-59-P